DEPARTMENT OF VETERANS AFFAIRS

Joint Biomedical Laboratory Research and Development and Clinical Science Research and Development Services Scientific Merit Review Board; Notice of Meetings

The Department of Veterans Affairs gives notice under the Public Law 92-463 (Federal Advisory Committee Act) that the panels of the Joint Biomedical Laboratory Research and Development and Clinical Science Research and Development Services Scientific Merit Review Board will meet from 8 a.m. to 5 p.m. on the dates indicated below:

Panel | Date(s) | Location
Hematology | May 25, 2011 | L'Enfant Plaza Hotel.
Surgery | May 25, 2011 | Crowne Plaza DC/Silver Spring.
Endocrinology-B | May 26, 2011 | L'Enfant Plaza Hotel.
Endocrinology-A | June 2-3, 2011 | L'Enfant Plaza Hotel.
Infectious Diseases-B | June 2, 2011 | Hamilton Crowne Plaza.
Nephrology | June 2, 2011 | Crowne Plaza DC/Silver Spring.
Neurobiology-A | June 2-3, 2011 | Crowne Plaza DC/Silver Spring.
Neurobiology-E | June 3, 2011 | Crowne Plaza DC/Silver Spring.
Pulmonary Medicine | June 3, 2011 | Crowne Plaza DC/Silver Spring.
Cellular & Molecular Medicine | June 6, 2011 | Crowne Plaza DC/Silver Spring.
Epidemiology | June 7, 2011 | VA Central Office.*
Mental Hlth & Behav Sci-B | June 7-8, 2011 | L'Enfant Plaza Hotel.
Mental Hlth & Behav Sci-A | June 8-9, 2011 | L'Enfant Plaza Hotel.
Neurobiology-C | June 8-10, 2011 | Crowne Plaza DC/Silver Spring.
Oncology | June 9-10, 2011 | L'Enfant Plaza Hotel.
Immunology | June 9, 2011 | L'Enfant Plaza Hotel.
Infectious Diseases-A | June 9, 2011 | L'Enfant Plaza Hotel.
Cardiovascular Studies | June 10, 2011 | Crowne Plaza DC/Silver Spring.
Neurobiology-D | June 10, 2011 | Crowne Plaza DC/Silver Spring.
Clinical Research Program | June 13, 2011 | VA Central Office.*
Gastroenterology | June 13, 2011 | L'Enfant Plaza Hotel.
The addresses of the hotels and VA Central Office are:
Plaza Washington DC/Silver Spring, 8777 Georgia Avenue, Silver Spring, MD.
Hamilton Crowne Plaza, 1001-14th Street, NW., Washington, DC.
L'Enfant Plaza Hotel, 480 L'Enfant Plaza, SW., Washington, DC.
* VA Central Office, 131 M Street, NE., Washington, DC.
* Teleconference.

The purpose of the Merit Review Board is to provide advice on the scientific quality, budget, safety and mission relevance of investigator-initiated research proposals submitted for VA merit review consideration. Proposals submitted for review by the Board involve a wide range of medical specialties within the general areas of biomedical, behavioral and clinical science research.

The panel meetings will be open to the public for approximately one hour at the start of each meeting to discuss the general status of the program. The remaining portion of each panel meeting will be closed to the public for the review, discussion, and evaluation of initial and renewal research proposals.

The closed portion of each meeting involves discussion, examination, reference to staff and consultant critiques of research proposals. During this portion of each meeting, discussion and recommendations will deal with qualifications of personnel conducting the studies, the disclosure of which would constitute a clearly unwarranted invasion of personal privacy, as well as research information, the premature disclosure of which could significantly frustrate implementation of proposed agency action regarding such research proposals.

As provided by subsection 10(d) of Public Law 92-463, as amended, closing portions of these panel meetings is in accordance with 5 U.S.C., 552b(c)(6) and (9)(B). Those who plan to attend or would like to obtain a copy of minutes of the panel meetings and rosters of the members of the panels should contact LeRoy G. Frey, PhD, Chief, Program Review (121F), Department of Veterans Affairs, 810 Vermont Avenue, NW., Washington, DC 20420 at (202) 443-5674.

Dated: March 31, 2011.
By Direction of the Secretary.
William F. Russo,
Director of Regulations Management, Office of General Counsel.

[FR Doc. 2011-8114 Filed 4-5-11; 8:45 am]

BILLING CODE 8320-01-P